DEPARTMENT OF COMMERCE

National Oceanic and Atmospheric Administration

[I.D. 101706E]

Incidental Takes of Marine Mammals During Specified Activities; Black Abalone Research Surveys at San Nicolas Island, Ventura County, CA

AGENCY: National Marine Fisheries Service (NMFS), National Oceanic and Atmospheric Administration (NOAA), Commerce.

ACTION: Notice; proposed incidental take authorization; request for comments.

SUMMARY: NMFS has received an application from Dr. Glenn VanBlaricom (Dr. VanBlaricom) for an Incidental Harassment Authorization (IHA) to take small numbers of marine mammals, by harassment, incidental to the assessment of black abalone populations at San Nicolas Island (SNI), CA. Pursuant to the Marine Mammal Protection Act (MMPA), NMFS is requesting comments on its proposed IHA for these activities.

DATES: Comments and information must be received no later than November 22, 2006.

ADDRESSES: Comments on the application should be addressed to Michael Payne, Chief, Permits, Conservation and Education Division, Office of Protected Resources, National Marine Fisheries Service, 1315 East-West Highway, Silver Spring, MD 20910-3225. The mailbox address for providing email comments is PR1.101706E@noaa.gov. NMFS is not responsible for e-mail comments sent to addresses other than the one provided here. Comments sent via e-mail, including all attachments, must not exceed a 10-megabyte file size.

A copy of the application containing a list of the references used in this document may be obtained by writing to the address specified above, telephoning the contact listed below (see FOR FURTHER INFORMATION CONTACT), or visiting the internet at: http://www.nmfs.noaa.gov/pr/permits/incidental.htm.

Documents cited in this notice may be viewed, by appointment, during regular business hours, at the aforementioned address.

FOR FURTHER INFORMATION CONTACT: Jolie Harrison, NMFS, (301) 713-2289.

SUPPLEMENTARY INFORMATION:

Background

Sections 101(a)(5)(A) and (D) of the MMPA (16 U.S.C. 1361 et seq.) direct the Secretary of Commerce to allow, upon request, the incidental, but not intentional, taking of marine mammals by U.S. citizens who engage in a specified activity (other than commercial fishing) within a specified geographical region if certain findings are made and either regulations are issued or, if the taking is limited to harassment, a notice of a proposed authorization is provided to the public for review.

Authorization shall be granted if NMFS finds that the taking will have a negligible impact on the species or stock(s), will not have an unmitigable adverse impact on the availability of the species or stock(s) for subsistence uses, and that the permissible methods of taking and requirements pertaining to the mitigation, monitoring and reporting of such takings are set forth. NMFS has defined “negligible impact” in 50 CFR 216.103 as ”...an impact resulting from the specified activity that cannot be reasonably expected to, and is not reasonably likely to, adversely affect the species or stock through effects on annual rates of recruitment or survival.”

Section 101(a)(5)(D) of the MMPA established an expedited process by which citizens of the United States can apply for an authorization to incidentally take small numbers of marine mammals by harassment. Except with respect to certain activities not pertinent here, the MMPA defines “harassment” as:

any act of pursuit, torment, or annoyance which (i) has the potential to injure a marine mammal or marine mammal stock in the wild [Level A harassment]; or (ii) has the potential to disturb a marine mammal or marine mammal stock in the wild by causing disruption of behavioral patterns, including, but not limited to, migration, breathing, nursing, breeding, feeding, or sheltering [Level B harassment].

Section 101(a)(5)(D) establishes a 45-day time limit for NMFS review of an application followed by a 30-day public notice and comment period on any proposed authorizations for the incidental harassment of marine mammals. Within 45 days of the close of the comment period, NMFS must either issue or deny issuance of the authorization.

Summary of Request

On August 10, 2006, NMFS received a letter from Dr. VanBlaricom, of the Washington Cooperative Fish and Wildlife Research Unit, requesting renewal of an IHA that was first issued to him on September 23, 2003 (68 FR 57427, October 3, 2003), and was last reissued on November 30, 2005 (70 FR 73732, December 13, 2005). The requested IHA would authorize the take, by harassment, of small numbers of California sea lions (Zalophus californianus), Pacific harbor seals (Phoca vitulina), and northern elephant seals (Mirounga angustirostris) incidental to research surveys performed for the purpose of assessing trends in black abalone (Haliotis cracherodii) populations at SNI, Ventura County, California. The proposed research consists of 2 researchers, on foot, counting abalone at nine permanent sites (1 m² each) on SNI twice a year, with one brief additional visit to each site for maintenance.

Population trend data for black abalone populations have become important in a conservation context because of: (a) the reintroduction of sea otters to SNI in 1987, raising the possibility of conflict between otter conservation and abalone populations (abalones are often significant prey for sea otters); (b) the appearance of a novel exotic disease, abalone withering syndrome, at SNI in 1992, resulting in dramatically increased rates of abalone mortality at the Island; and, (c) the recent designation of California populations of black abalones as a species of concern in the context of listing pursuant to the Endangered Species Act (ESA). Research is done under the auspices of the Washington Cooperative Fish and Wildlife Research Unit, the University of Washington, and the U.S. Navy (owner of SNI), with additional logistical support from the University of California, Santa Cruz. Since the abalone are not handled or removed in the course of the research, neither a state nor federal permit is needed.

Additional information on the research is contained in the application and proposed IHA Federal Register notice (69 FR 70249), which are available upon request (see ADDRESSES).

Project Description

Nine permanent abalone research study areas are located in rocky intertidal habitats on SNI in Ventura County, CA. The applicant has made 106 separate field trips to SNI from September 1979 through March 2006, participating in abalone survey work on 564 different days at nine permanent study sites. Under the latest authorization, Dr. VanBlaricom made five different visits and conducted work for 30 total days in the one year period.

Quantitative abalone surveys on SNI began in 1981, at which point permanent research sites were chosen based on the presence of dense patches of abalone in order to monitor changes over time in dense abalone aggregations. Research is conducted by counting black abalone in plots of 1 m² (3.3 ft²) along permanent transect lines in rocky intertidal habitats at each of the nine study sites on the island. Permanent transect lines are demarcated by stainless steel eyebolts embedded in the rock substrata and secured with marine epoxy compound. Lines are placed temporarily between bolts during surveys and are removed once surveys are completed. Survey work is done by two field biologists working on foot (sites are accessed by hiking to water from vehicle parked inland) and monitoring of black abalone populations at SNI can be done only during periods of extreme low tides. The exact date of a visit to any given site is difficult to predict because variation in surf height and sea conditions can influence the safety of field biologists as well as the quality of data collected. In most years survey work is done during the months of January, February, March, July, November, and December because of optimal availability of low tides. All work is done during daylight hours due to of safety considerations.

During the year, each of the nine permanent study sites at SNI will be visited three times. Abalone surveys, which take no more than 4 hours at each site, are conducted during two of the three visits to each of the nine sites. The third, and final, visit is a maintenance visit, which takes less than half of an hour at each site and is used to take measurements and make necessary repairs to plots and is conducted in a month when smaller numbers of pinnipeds are present.

The affected marine mammal populations at SNI, especially California sea lions and northern elephant seals, have grown substantially since the beginning of abalone research in 1979 and have occupied an expanded distribution on the island due to population growth. Sites previously accessible with no risk of marine mammal harassment are now being utilized by marine mammals at levels such that approach without the possibility of harassment is difficult. An IHA is warranted for this study because of the nine study sites used for the abalone surveys, only two sites can be occupied without the possibility of disturbing at least one species of pinniped.

Description of Habitat and Marine Mammals in the Activity Area

San Nicolas is one of the eight Channel Islands, located in the Santa Barbara Channel off Southern California. Nine miles long (14.5 km) and about three and a half miles (5.6 km) across at its widest point, it is the farthest island from the mainland, more than 60 miles (96.6 km) offshore and about 85 miles (136.8 km) southwest of Los Angeles, California. SNI is owned and operated by the U.S. Navy and is off-limits to civilians without specific permission.

Many of the beaches in the Channel Islands provide resting, molting or breeding places for species of pinnipeds. On SNI, three pinniped species (northern elephant seal, Pacific harbor seal, and California sea lion) can be expected to occur on land in the vicinity of abalone research sites either regularly or in large numbers during certain times of the year. In addition, a single adult male Guadalupe fur seal (Arctocephalus townsendi) (federally listed as threatened under the Endangered Species Act) was seen at one abalone research site on two occasions during the summer months in the mid-1980's. However, none have been seen since those original sightings.

Further information on the biology and distribution of these species and others in the region can be found in Dr. VanBlaricom's application, which is available upon request (see ADDRESSES), and the Marine Mammal Stock Assessment Reports, which are available online at http://www.nmfs.noaa.gov/prot_res/PR2/Stock_Assessment_Program/individual_sars.html.

California Sea Lions

The U.S. stock of California sea lions extends from the U.S./Mexico border north into Canada. Breeding areas of the sea lion are on islands located in southern California, western Baja California, and the Gulf of California and they primarily use the central California area to feed during the non-breeding season. Population estimates for the U.S. stock of California sea lions, which are based on counts conducted in 2001 and extrapolations from the number of pups, range from a minimum of 138,881 to an average of 244,000 animals, with a current growth rate of 5.4 to 6.1 percent per year (Carretta et al., 2005). The California sea lion is not listed under the ESA and the U.S. stock is not considered depleted under the MMPA.

California sea lions haul out at many sites on SNI and are by far the most common pinniped on the island. Over the course of a year, up to 100,000 sea lions may use SNI. Numbers of sea lions at SNI increased by about 21 percent per year between 1983 and 1995 (NMFS, 2003) and sea lions have recently started occupying areas that were not formerly used. Pupping occurs on the beaches of SNI from mid-June to mid-July. Females nurse their pups for about eight days and then begin an alternating pattern of foraging at sea vs. attending and nursing the pup on land, which lasts for about eight months, and sometimes up to a year. California sea lions also haul out at SNI during the molting period in September, and smaller numbers of females and juveniles haul out during most of the year.

Pacific Harbor Seals

Harbor seals are widely distributed in the North Atlantic and North Pacific. In California, approximately 400-500 harbor seal haul-out sites are distributed along the mainland and on offshore islands, including intertidal sandbars, rocky shores and beaches (Hanan, 1996). A complete count of all harbor seals in California is impossible because some are always away from the haul-out sites. A complete pup count (as is done for other pinnipeds in California) is also not possible because harbor seals are precocious, with pups entering the water almost immediately after birth. Based on the most recent harbor seal counts (2004 and 2005) and including a correction factor for the above, the estimated population of harbor seals in California is 34,233 (Caretta et al., 2005), with an estimated minimum population of 31,600 for the California stock of harbor seals. Counts of harbor seals in California showed a rapid increase from 1972 to 1990, but since 1990 there has been no net population growth along the mainland or the Channel Islands. Though no formal determination of Optimal Sustainable Population (OSP) has been made, the decrease in the growth rate may indicate that the population has reached its carrying capacity. The harbor seal is not listed under the ESA and the California stock is not considered depleted under the MMPA.

Harbor seals haul out at various sandy, cobble, and gravel beaches around SNI and pupping occurs on the beaches from late February to early April, with nursing of pups extending into May. Harbor seals may also haul out during molting period in late Spring, and smaller numbers haul out at other times of year. Harbor seal abundance increased at SNI from the 1960s until 1981, but since the average counts have not changed significantly. From 1982 to 1994, numbers of harbor seals have fluctuated between 139 and 700 harbor seals based on both peak ground counts and annual photographic survey photos. The most recent aerial count on SNI was of 457 harbor seals in 1994.

Northern Elephant Seals

Northern elephant seals breed and give birth in California (U.S.) and Baja California primarily on offshore islands, from December to March (Stewart et al., 1994). The California breeding stock, which includes the animals on SNI, is now demographically separated from the Baja California population. Based on trends in pup counts, northern elephant seal colonies appeared to be increasing in California through 2001. The population size of northern elephant seals in California is estimated to be 101,000 animals, with a minimum population estimate of 60,547 (Carretta et al., 2005). A continuous average growth rate (though it has declined a bit in recent years) of 8.3 percent has seen numbers of this species increase from 100 in 1900 to the current population size (Caretta et al., 2005). The northern elephant seal is not listed under the ESA and the California stock is not considered depleted under the MMPA.

Increasing numbers of elephant seals haul out at various sites around SNI. Based on a pup count in 1995 that found 6,575 pups, scientists estimated that over 23,000 elephant seals may use SNI in a year (NMFS, 2003). From 1988 to 1995 the pup counts on SNI increased at an average rate of 15.4 percent per year, however, the growth rate of the population as a whole seems to have declined in recent years (NMFS, 2003). Pupping occurs on the beaches of SNI from January to early February, with nursing of pups extending into March. Northern elephant seals also haul out during the molting periods in the spring and summer, and smaller numbers haul out at other times of the year.

Potential Effects of Activities on Marine Mammal

Variable numbers of sea lions, harbor seals, and elephant seals typically haul out near seven of the nine study sites used for abalone research, with breeding activity occurring at four of these seven sites. Pinnipeds likely to be affected by abalone research activity are those that are hauled out on land at or near study sites.

Incidental harassment may result if hauled animals move away from the abalone researchers. For the purpose of estimating numbers of pinnipeds taken by these activities, NMFS conservatively estimates that pinnipeds that move or change the direction of their movement in response to the presence of researchers are taken by Level B Harassment. Animals that raise their head and look at the researcher are not considered to have been taken. Although marine mammals will not be deliberately approached by abalone survey personnel, approach may be unavoidable if pinnipeds are hauled out directly upon the permanent abalone study plots. In almost all cases, shoreline habitats near the abalone study sites are gently sloping sandy beaches or horizontal sandstone platforms with unimpeded and non-hazardous access to the water. If disturbed, hauled animals may move toward the water without risk of encountering significant hazards. In these circumstances, the risk of serious injury or death to hauled animals is very low.

The risk of marine mammal injury or mortality associated with abalone research increases somewhat if disturbances occur during breeding season, as it is possible that mothers and dependent pups could become separated. If separated pairs don't reunite fairly quickly, risks of mortality to pups (through starvation) may increase. Also, adult northern elephant seals may trample elephant seal pups if disturbed, which could potentially result in the of injury or death of pups. However, the IHA will include time of year restrictions intended to limit the presence of researchers to months that California sea lion and harbor seal dependent pups are not present at the survey sites. Additionally, though elephant seal pups are occasionally present at abalone surveys, risk of pup mortalities are very low because elephant seals are far less reactive to researcher presence than the other two species (an estimated 30 total elephant seals have been disturbed in the last three years out of 1594 present around the study site). Last, researchers use great care approaching sites and pups are on the sand while the permanent study sites are on rocks, which leaves the two always separated by at least 50 m (164 ft). Because of the circumstances and the IHA requirements discussed above, NMFS believes it highly unlikely that the proposed activities would result in the injury or mortality of pinnipeds (and none have been recorded in the 27 years that the researcher has been conducting this research).

The results of Dr. VanBlaricom's monitoring under the previous IHA are summarized in Table 1, which shows the numbers of each species present at Dr. VanBlaricom's survey sites as well as the numbers disturbed during his visits in the last year. As part of the required monitoring, Dr. VanBlaricom records the numbers of disturbed animals that flush into the water, the number that move more than 1 m, but do not enter the water, and the number that become alert and move, but not move more than 1 m (see the application for these numbers). Animals that raised their head and looked at the researcher without moving were not considered disturbed (or harrassed pursuant to the MMPA). For the purposes of estimating take in the IHA, NMFS conservatively estimates take as the total of all three categories of disturbed behavior recorded.

As indicated in Table 1, approximately 25 percent of the total animals harassed by this activity responded by flushing into the water (221 sea lions, 46 harbor seals, and 0 elephant seals) and the rest responded to a lesser degree by moving some distance on land when the researchers approached. Though the researchers have not stayed to find how soon pinnipeds return after flushing (leaving as soon as possible minimizes the effects), increasing numbers at some of the sites and pinniped presence at sites where they were not present before suggest that the research is not having any long-term detrimental effects on the population of any of these three species. Older, weaned sea lion pups were seen and disturbed at sites 6, 7, and 8, however, none were flushed into the water or injured in any way.

Year | Month | Date | Site# | California Sea Lions: Present at site | California Sea Lions: Disturbed | Pacific Harbor Seals: Present at site | Pacific Harbor Seals: Disturbed | Northern Elephant Seals: Present at site | Northern Elephant Seals: Disturbed
2006 | January | 2 | 1 | 54 | 1 | 0 | 0 | 0 | 0
2006 | January | 12 | 1 | 50 | 3 | 0 | 0 | 1 | 0
2006 | February | 25 | 1 | 1 | 1 | 0 | 0 | 0 | 0
2006 | February | 26 | 1 | 32 | 28 | 0 | 0 | 0 | 0
2005 | December | 1 | 2 | 0 | 0 | 0 | 0 | 0 | 0
2005 | December | 3 | 2 | 0 | 0 | 0 | 0 | 0 | 0
2006 | January | 1 | 2 | 0 | 0 | 0 | 0 | 0 | 0
2006 | January | 15 | 2 | 0 | 0 | 0 | 0 | 0 | 0
2006 | January | 29 | 2 | 0 | 0 | 0 | 0 | 0 | 0
2006 | February | 24 | 2 | 0 | 0 | 0 | 0 | 0 | 0
2005 | December | 2 | 3 | 0 | 0 | 0 | 0 | 0 | 0
2006 | January | 16 | 3 | 0 | 0 | 0 | 0 | 0 | 0
2006 | January | 30 | 3 | 0 | 0 | 0 | 0 | 0 | 0
2006 | January | 31 | 3 | 0 | 0 | 0 | 0 | 0 | 0
2006 | February | 28 | 3 | 0 | 0 | 0 | 0 | 0 | 0
2005 | December | 4 | 4 | 0 | 0 | 0 | 0 | 0 | 0
2006 | January | 25 | 4 | 0 | 0 | 0 | 0 | 0 | 0
2006 | January | 30 | 4 | 0 | 0 | 0 | 0 | 0 | 0
2006 | March | 1 | 4 | 0 | 0 | 0 | 0 | 0 | 0
2006 | January | 26 | 5 | 27 | 5 | 27 | 25 | 88 | 4
2006 | January | 14 | 6 | 86 | 69 | 13 | 13 | 216 | 7
2006 | January | 26 | 6 | 97 | 90 | 17 | 12 | 203 | 2
2006 | January | 27 | 7 | 610 | 386 | 0 | 0 | 60 | 0
2005 | December | 30 | 8 | 226 | 195 | 0 | 0 | 3 | 0
2006 | January | 13 | 8 | 241 | 227 | 0 | 0 | 5 | 0
2006 | January | 28 | 8 | 140 | 40 | 0 | 0 | 14 | 0
2005 | December | 29 | 9 | 0 | 0 | 0 | 0 | 14 | 1
2005 | December | 31 | 9 | 0 | 0 | 0 | 0 | 19 | 0
Totals | 1564 | 1045 | 57 | 50 | 623 | 14
# that flushed into water |  | 221 (21%) |  | 46 (92%) |  | 0
# moved >1m, but not into water |  | 680 (65%) |  | 3 (6%) |  | 11 (79%)
# came alert, but did not move >1 m |  | 144 (14%) |  | 1 (2%) |  | 3 (21%)
Table 1. Results from 2006 monitoring. Number of “disturbed” animals indicates total of the three categories of recorded reactions which include: animals that flushed into the water; animals that moved more than 1 m, but did not enter the water; and, animals that moved or changed direction, but did not move more than 1 m.

Mitigation

Several mitigation measures to reduce the potential for harassment from population assessment research surveys will be implemented as part of the SNI abalone research activities. Primarily, mitigation of the risk of disturbance to pinnipeds requires that researchers are judicious in the route of approach to abalone study sites, avoiding close contact with pinnipeds hauled out on shore. In no case will marine mammals be deliberately approached by abalone survey personnel, and in all cases every possible measure will be taken to select a pathway of approach to study sites that minimizes the number of marine mammals harassed. Each visit to a given study site will last for a maximum of 4 hours, after which the site is vacated and can be re-occupied by any hauled marine mammals that may have been disturbed by the presence of abalone researchers.

The potential risk of injury or mortality will be avoided with measures required under the authorization. Disturbances to females with dependent pups (in the cases of California sea lions and Pacific harbor seals) will be mitigated to the greatest extent practicable by avoiding visits to the four black abalone study sites with resident pinnipeds during periods of breeding and lactation from mid-February through the end of October. During this period, abalone research would be confined to the other five sites where pinniped breeding and post-partum nursing does not occur. Limiting visits to the four breeding and lactation sites (5, 6, 7, and 8) to periods when these activities do not occur (November, December, January, and the first half of February) will reduce the possibility of incidental harassment and the potential for serious injury or mortality of dependent California sea lion pups and Pacific harbor seal pups to near zero.

Northern elephant seal pups are present at four sites during winter months. Risks of injury or mortality of elephant seal pups by mother/pup separation or trampling are limited to the period from January through March when pups are born, nursed, and weaned, ending about 30 days post-weaning when pups depart land for foraging areas at sea. However, elephant seals have a much higher tolerance of nearby human activity than sea lions or harbor seals. Also, elephant seal pupping typically occurs on the sandy beaches at SNI, approximately 50 m (164 ft) or more away from the abalone study sites. Possible take of northern elephant seal pups will be minimized by using a very careful approach to the study sites and avoiding the proximity of hauled seals and any seal pups during collection of abalone population data.

One individual Guadalupe fur seal was seen at study site 8 on two separate occasions during the summer months in the mid-1980's. Since the original sightings, no individuals of this species have been seen during abalone research. However, to ensure that Gaudelupe fur seals are not affected by these activities and that authorization is not needed pursuant to the MMPA or the ESA, researchers will only visit site 8 from November through January and work will be immediately suspended and researchers vacated if an individual is seen. Guadalupe fur seals are distinctive in appearance and behavior, and can be readily identified at a distance without any disturbance.

Sea otters, which are federally listed as threatened under the ESA and managed by the U.S. Fish and Wildlife Service, are not expected ashore during the time periods when the research activities would be conducted. However, if sea otters are sighted ashore during the abalone research, Dr. VanBlaricom would follow similar procedures in place for fur seals to avoid impacts, suspending research activities in any areas California sea otters are occupying.

Monitoring

Currently, all biological research activities at SNI are subject to approval and regulation by the Environmental Planning and Management Department (EPMD), U.S. Navy. The U.S. Navy owns SNI and closely regulates all civilian access to and activity on the island, including biological research. Therefore, monitoring activities will be closely coordinated with Navy marine mammal biologists located on SNI.

In addition, status and trends of pinniped aggregations at SNI are monitored by the NMFS Southwest Fisheries Science Center. Also, long-term studies of pinniped population dynamics, migratory and foraging behavior, and foraging ecology at SNI are conducted by staff at Hubbs-Sea World Research Institute (HSWRI).

Monitoring requirements in relation to Dr. VanBlaricom's abalone research surveys will include observations made by the applicant and his associates. Information recorded will include species counts (with numbers of pups), numbers of observed disturbances, and descriptions of the disturbed behaviors during the abalone surveys. Observations of unusual behaviors, numbers, or distributions of pinnipeds on SNI will be reported to EPMD, NMFS, and HSWRI so that any potential follow-up observations can be conducted by the appropriate personnel. In addition, observations of tag-bearing pinniped carcasses as well as any rare or unusual species of marine mammals will be reported to EPMD and NMFS.

If at any time injury or death of any marine mammal occurs that may be a result of the proposed abalone research, Dr. VanBlaricom will suspend research activities and contact NMFS immediately to determine how best to proceed to ensure that another injury or death does not occur and to ensure that the applicant remains in compliance with the MMPA.

Reporting

A draft final report must be submitted to NMFS within 60 days after the conclusion of the year-long field season. The report will include a summary of the information gathered pursuant to the monitoring requirements set forth in the IHA. A final report must be submitted to the Regional Administrator within 30 days after receiving comments from NMFS on the draft final report. If no comments are received from NMFS, the draft final report will be considered to be the final report.

Dr. VanBlaricom has already submitted the final report required by the current IHA and it may be viewed on the NMFS website (see ADDRESSES).

Numbers of Marine Mammals Expected to be Harassed

NMFS has determined that small numbers, relative to population estimates, of California sea lions, Pacific harbor seals, and northern elephant seals may be taken by harassment as a result of this activity (1.3, 0.2, and .04 percent of the minimum population, respectively).

The distribution of pinnipeds hauled out on beaches is not even between sites or at different times of the year. The number of marine mammals disturbed will vary by month and location, and, compared to animals hauled out on the beach farther away from survey activity, only those animals hauled out closest to the actual survey transect plots contained within each research site are likely to be disturbed by the presence of researchers and alter their behavior or attempt to move out of the way.

Table 2 depicts the total numbers of animals encountered and disturbed by Level B Harasssment in Dr. VanBlaricom's 2004, 2005, and 2006 abalone survey field seasons. As discussed earlier, NMFS considers an animal to have been harassed if it moved any distance in response to the researcher's presence or if the animal was already moving and changed direction. Animals that raised their head and looked at the researcher without moving were not considered disturbed. Based on past observations and assuming a maximum level of incidental harassment of marine mammals at each site during periods of visitation, NMFS estimates that the maximum total possible numbers of individuals that will be incidentally harassed during the effective dates of the proposed IHA would be 1770 California sea lions, 75 Pacific harbor seals, and 25 northern elephant seals. Three visits to each site are anticipated during the year-long validity of the IHA.

| California sea Lions: Present around Site | California sea Lions: Est. Harassed | Pacific Harbor Seals: Present around Site | Pacific Harbor Seals: Est. Harassed | Northern Elephant Seals: Present around Site | Northern Elephant Seals: Est. Harassed
2004 | 2239 | 1472 | 108 | 99 | 562 | 7
2005 | 1383 | 983 | 99 | 88 | 409 | 9
2006 | 1564 | 1045 | 57 | 50 | 623 | 14

Potential Effects of Activities on Marine Mammal Habitat

NMFS anticipates that the action will result in no impacts to marine mammal habitat beyond rendering the areas immediately around each of the nine study sites less desirable as haulout sites for a total of 8.5 hours per year.

ESA

For the reasons already described in this Federal Register Notice, NMFS has determined that the described abalone research and the accompanying IHA will have no effect on species or critical habitat protected under the ESA (specifically, the Guadelope fur seal). Therefore, consultation under Section 7 was not required.

National Environmental Policy Act (NEPA)

NMFS prepared an Environmental Assessment (EA) of the Issuance of an IHA to Take Marine Mammals, by Harassment, During Black Abalone Research at SNI, California, which analyzed the issuance of multiple IHAs over several years for these activities, and subsequently issued a Finding of No Significant Impact on November 21, 2005. A copy of the EA and FONSI are available upon request (see ADDRESSES).

Conclusions

Based on Dr. VanBlaricom's application and monitoring reports for previous field seasons, as well as the analysis contained herein, NMFS has preliminarily determined that the impact of the described abalone research at SNI will result, at most, in a temporary modification in behavior by small numbers of California sea lions, Pacific harbor seals, and northern elephant seals, in the form of head alerts, movement away from the researchers and/or flushing from the beach. In addition, no take by injury or death is anticipated, and take by harassment will be at the lowest level practicable due to incorporation of the mitigation measures mentioned previously in this document. NMFS has further preliminarily determined that, dependent upon the implementation of the proposed mitigation measures, the anticipated takes will have a negligible impact on the affected species.

Proposed Authorization

NMFS proposes to issue an IHA to Dr. Glenn R. VanBlaricom for the harassment of California sea lions, Pacific harbor seals, and northern elephant seals incidental to black abalone population trend research, provided the previously mentioned mitigation, monitoring, and reporting requirements are incorporated.

Dated: October 17, 2006.
James H. Lecky,
Director, Office of Protected Resources, National Marine Fisheries Service.

[FR Doc. E6-17704 Filed 10-20-06; 8:45 am]

BILLING CODE 3510-22-S